DEPARTMENT OF HOMELAND SECURITY

Coast Guard

[Docket No. USCG-2022-0104]

National Offshore Safety Advisory Committee; April 2022 Teleconference

AGENCY: U.S. Coast Guard, Department of Homeland Security.

ACTION: Notice of Federal Advisory Committee teleconference meeting.

SUMMARY: The National Offshore Safety Advisory Committee (Committee) will meet via teleconference to discuss matters relating to activities directly involved with, or in support of, the exploration of offshore mineral and energy resources, to the extent that such matters are within the jurisdiction of the United States Coast Guard. The meeting will be open to the public.

DATES:

Meeting: The Committee will hold an inaugural meeting by teleconference on Tuesday, April 26, 2022, from 9 a.m. until 3 p.m. Eastern Daylight Time. Please note the teleconference may close early if the Committee has completed its business.

Comments and supporting documents: To ensure your comments are reviewed by Committee members before the teleconference, submit your written comments no later than April 12, 2022.

ADDRESSES: To join the teleconference or to request special accommodations, contact the individual listed in the FOR FURTHER INFORMATION CONTACT section no later than 1 p.m. on April 19, 2022 to obtain the needed information. The number of teleconference lines is limited and will be available on a first-come, first-served basis.

Pre-registration information: Participants will be required to pre-register no later than April 19, 2022 to attend the teleconference. To pre-register, please contact the individual listed in the FOR FURTHER INFORMATION CONTACT. You will be asked to provide your name, telephone number, email, and company or group in which you are affiliated.

Instructions: You are free to submit comments at any time, including orally at the teleconference as time permits, but if you want Committee members to review your comments before the teleconference, please submit your comments no later than April 19, 2022. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2022-0104]. Comments received will be posted without alteration at https://www.regulations.gov, including any personal information provided. You may wish to review the Privacy and Security notice available on the homepage of https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Lieutenant Kimberly Gates, Alternate Designated Federal Officer of the National Offshore Safety Advisory Committee, 2703 Martin Luther King Jr Ave. SE, Stop 7509, Washington, DC 20593-7509, telephone 202-372-1455, fax 202-372-8382 or Kimberly.M.Gates@uscg.mil.

SUPPLEMENTARY INFORMATION: Notice of this meeting is given pursuant to the Federal Advisory Committee Act, (5. U.S.C. Appendix). The National Offshore Safety Advisory Committee was established on December 4, 2018, by section 601 of the Frank LoBiondo Coast Guard Authorization Act of 2018 (Pub. L. 115-282, 132 Stat. 4192). That authority is codified in 46 U.S.C. 15106. The Committee operates under the provisions of the Federal Advisory Committee Act, (5 U.S.C. Appendix) and 46 U.S.C. 15109. The Committee provides advice on matters relating to activities directly involved with, or in support of, the exploration of offshore mineral and energy resources, to the extent that such matters are within the jurisdiction of the United States Coast Guard.

Agenda

The agenda for the April 26, 2022 teleconference is as follows:

(1) Call to Order.

(2) Roll call and determination of quorum.

(3) Opening Remarks.

(4) Swearing-in/Induction of Committee members.

(5) Presentation of Task.

The Coast Guard will present the task to the Committee:

Review of the recommendations from the Shell AUGER Accident Investigation Report.

(6) Public Comment period.

(7) Closing remarks/plans for next meeting.

(8) Adjournment of meeting.

A copy of all meeting documentation will be available at: https://homeport.uscg.mil/missions/ports-and-waterways/safety-advisory-committees/nosac/organization no later than April 21, 2022. Alternatively, you may contact Lieutenant Kimberly Gates as noted in the FOR FURTHER INFORMATION CONTACT section above.

During the April 26, 2022, teleconference, a public comment period will be held from approximately 2:30 p.m. to 3 p.m. Speakers are requested to limit their comments to 3 minutes. Please note that this public comment period may start before 2:30 p.m. if all other agenda items have been covered and may end before 3 p.m. if all of those wishing to comment have done so. Please contact Lieutenant Kimberly Gates, listed in the FOR FURTHER INFORMATION CONTACT section to register as a speaker.

Dated: March 25, 2022.
Jeffrey G. Lantz,
Director of Commercial Regulations and Standards.

[FR Doc. 2022-06998 Filed 4-1-22; 8:45 am]

BILLING CODE 9110-04-P